DEPARTMENT OF ENERGY

Federal Energy Regulatory Commission

[Project No. 3309-021]

Marlow Hydro, LLC; Notice of Application Tendered for Filing With the Commission, Soliciting Additional Study Requests, Establishing Procedural Schedule for Relicensing, and Setting Deadline for Submission of Final Amendments

Take notice that the following hydroelectric application has been filed with the Commission and is available for public inspection.

a. Type of Application: Subsequent Minor License.

b. Project No.: 3309-021.

c. Date filed: December 1, 2020.

d. Applicant: Marlow Hydro, LLC (Marlow Hydro).

e. Name of Project: Nash Mill Dam Project.

f. Location: On the Ashuelot River, in the town of Marlow, Cheshire County, New Hampshire. The project does not occupy federal land.

g. Filed Pursuant to: Federal Power Act 16 U.S.C. 791 (a)-825(r).

h. Applicant Contact: Anthony Rosario and Carole Rosario, 139 Henniker St., Hillsborough, New Hampshire 03244, (603) 494-1854, (603) 494-3897, or email at t-iem@tds.net or cprabr@tds.net.

i. FERC Contact: Adam Peer at (202) 502-8449, or email adam.peer@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: January 30, 2021.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-3309-021.

m. The application is not ready for environmental analysis at this time.

n. Marlow Hydro electronically filed the final license application cover letter and exhibit G drawings with the Commission on November 30, 2020 at 6:39 p.m. and the license application on December 1, 2020 at 10:03 a.m. Pursuant to 18 CFR 385.2001(a)(2), any document received after 5:00 p.m. eastern time is considered filed on the next regular business day. By this notice, the requirement under 18 CFR 16.20(c) to file the subsequent license application at least 24 months before the expiration of the current license (i.e., no later than November 30, 2020 at 5:00 p.m.) is waived.

o. Project Description: The existing Nash Mill Dam Project utilizes water from the 2-acre impoundment and consists of: (1) A 249-foot-long dam consisting of: (i) A 57-foot-long, 9 foot-high concrete gravity spillway topped with 3-foot-high wooden flashboards, (ii) a 12-foot-long concrete intake section, and (iii) two, 12-foot-high earthen dam sections totaling 180 feet in length; (2) an intake structure with a 10-foot-high, 10-foot-wide trash rack; (3) a 1,500 foot-long, 48-inch diameter steel penstock; (4) a 31-foot-long, 18-foot-wide powerhouse located on the north side of the Ashuelot River that contains two vertical-shaft, fixed propeller turbine-generator units and one horizontal-shaft turbine-generator unit for a total installed capacity of 225 kilowatts; (5) a 600-foot-long tailrace; (6) a 1,800-foot-long bypassed reach; (7) a 1,400 foot-long transmission line and a 12.5-kilovolt transformer; and (8) appurtenant facilities. The average annual generation was 558,923 kilowatt-hours for the period from 2009 to 2018.

Marlow Hydro currently operates the project in run-of-river mode and releases a minimum flow of 5 cubic feet per second (cfs) into the bypassed reach.

Marlow Hydro proposes to continue to operate in run-of-river mode and to increase the minimum flow released into the bypassed reach to 12 cfs.

p. In addition to publishing the full text of this notice in the Federal Register, the Commission provides all interested persons an opportunity to view and/or print the contents of this notice, as well as other documents in the proceeding (e.g., license application) via the internet through the Commission's Home Page (http://www.ferc.gov) using the eLibrary link. Enter the docket number excluding the last three digits in the docket number field to access the document (P-3309). At this time, the Commission has suspended access to the Commission's Public Reference Room due to the proclamation declaring a National Emergency concerning the Novel Coronavirus Disease (COVID-19) issued by the President on March 13, 2020. For assistance, contact FERC at FERCOnlineSupport@ferc.gov or call toll-free, (866) 208-3676 or (202) 502-8659 (TTY).

You may also register online at http://www.ferc.gov/docs-filing/esubscription.asp to be notified via email of new filings and issuances related to this or other pending projects. For assistance, contact FERC Online Support.

q. Procedural schedule and final amendments: The application will be processed according to the following preliminary schedule. Revisions to the schedule will be made as appropriate.

Issue Deficiency Letter (if necessary) February 2021

Request Additional Information February 2021

Issue Notice of Acceptance May 2021

Issue Scoping Document 1 for comments June 2021

Request Additional Information (if necessary) September 2021

Issue Scoping Document 2 September 2021

Issue Notice of Ready for Environmental Analysis September 2021

r. Final amendments to the application must be filed with the Commission no later than 30 days from the issuance date of the notice of ready for environmental analysis.

Dated: December 14, 2020.
Kimberly D. Bose,
Secretary.

[FR Doc. 2020-27930 Filed 12-17-20; 8:45 am]

BILLING CODE 6717-01-P